DEPARTMENT OF ENERGY

Federal Energy Regulatory Commission

[Docket No. CP08-401-000]

Natural Gas Pipeline Company of America LLC; Notice of Request Under Blanket Authorization

May 21, 2008.

Take notice that on May 15, 2008, Natural Gas Pipeline Company of America LLC (Natural), 3250 Lacey Road, Suite 700, Downers Grove, Illinois 60515, filed in Docket No. CP08-401-000, a prior notice request pursuant to sections 157.205, 157.208, 157.211, and 157.212 of the Federal Energy Regulatory Commission's regulations under the Natural Gas Act for authorization to construct, own, and operate an interconnection with Golden Pass Pipeline LLC (Golden Pass) to receive re-vaporized liquefied natural gas (LNG), located in Jefferson County, Texas, and initially to deliver gas into Golden Pass to facilitate the commissioning of the new pipeline system, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Natural proposes to construct and operate facilities necessary to receive up to 900 MMcf/day of re-vaporized LNG from Golden Pass (and initially, to deliver natural gas into it for commissioning purposes) at a new interconnect that will be located near Dennis Gahagan Survey, Abstract A-123 in Jefferson County, Texas. Natural proposes to construct two 24-inch taps, approximately 0.4 miles of 24-inch pipe, and appurtenances, on its Louisiana No. 1 and No. 2 Lines to receive the re-vaporized gas. Golden Pass will install and own four 12-inch ultrasonic meter runs, flow control valves, electronic flow measurement and other related equipment. The proposed facilities will provide Natural with a new receipt interconnect and allow Golden Pass to deliver up to 900 MMcf/day. The estimated cost of the project is approximately $2.5 million, and all costs associated with the project will be reimbursed by Golden Pass. The proposed in-service date for the interconnect facilities is September 1, 2008.

Any questions regarding the application should be directed to Norman Watson, Director, Business Development, Natural Gas Pipeline Company of America LLC, 500 Dallas Street, Suite 1000, Houston, Texas 77002, at (713) 369-9219 or Bruce H. Newsome, Vice President, Natural Gas Pipeline Company of America LLC, 3250 Lacey Road, Suite 700, Downers Grove, Illinois 60515, at (630) 725-3070.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205), file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-11914 Filed 5-28-08; 8:45 am]

BILLING CODE 6717-01-P